DEPARTMENT OF HEALTH AND HUMAN SERVICES

Food and Drug Administration

[Docket No. 98F-0184]

Rohm and Haas Co.; Withdrawal of Food Additive Petition

AGENCY: Food and Drug Administration, HHS.

ACTION: Notice.

SUMMARY: The Food and Drug Administration (FDA) in announcing the withdrawal, without prejudice to a future filing, of a food additive petition (FAP 8A4588) proposing that the food additive regulations be amended to provide for the safe use of completely hydrolyzed copolymer of acrylonitrile and trivinylcyclohexane ion-exchange resin for use in treating potable water and aqueous, acidic, and alcoholic foods.

FOR FURTHER INFORMATION CONTACT: Parvin M. Yasaei, Center for Food Safety and Applied Nutrition (HFS-215), Food and Drug Administration, 200 C St. SW., Washington, DC 20204, 202-418-3023.

SUPPLEMENTARY INFORMATION: In a notice published in the Federal Register of April 1, 1998 (63 FR 15851), FDA announced that a food additive petition (FAP 8A4588) had been filed by Rohm and Haas Co., 5000 Richmond St., Philadelphia, PA 19137. The petition proposed to amend the food additive regulations in § 173.25 Ion-exchange resins (21 CFR 173.25) to provide for the safe use of completely hydrolyzed copolymer of acrylonitrile and trivinylcyclohexane ion-exchange resin for use in treating potable water and aqueous, acidic, and alcoholic foods. Rohm and Haas Co. has now withdrawn the petition without prejudice to a future filing (21 CFR 171.7).

Dated: March 24, 2000.
Laura M. Tarantino,
Acting Director, Office of Premarket Approval, Center for Food Safety and Applied Nutrition.

[FR Doc. 00-10689 Filed 4-28-00; 8:45 am]

BILLING CODE 4160-01-F